DEPARTMENT OF HEALTH AND HUMAN SERVICES

[Document Identifier: OS-0990-New]

Agency Emergency Information Collection Clearance Request for Public Comment

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 30 days.

Proposed Project: Healthy Living Innovation Awards—OMB No. 0990-NEW—Emergency Information Collection Clearance Request—Assistant Secretary Planning Evaluation (ASPE).

Abstract: The Office of the Assistant Secretary for Planning and Evaluation (ASPE) is requesting emergency approval from the Office of Management and Budget (OMB) to receive applications from public and private sector organizations for the Healthy Living Innovation Awards. The project will provide an opportunity for HHS to increase public awareness of creative approaches to develop and expand innovative health promotion programs and duplicate successful strategies in various settings. The Healthy Living Innovation Awards is a new HHS initiative designed to identify and acknowledge innovative health promotion projects within the last 3 years that have demonstrated a significant impact on the health status of a community. As a part of the Awards selection process interested private and public sector organizations will nominate themselves by completing an online form that asks several questions related to the project and the organization as a whole. The responses to these questions will be used to determine the best-qualified nominees for several award categories. An HHS expert panel will review nominations and make an initial selection of the most promising innovations in each category. An executive summary of the nomination form for the most promising innovations will then be posted on the HHS Healthy Living Innovation Awards Web site for public voting. The Secretary of the U.S. Department of Health and Human Services will make final determination of the award winners in each category based on public votes and recommendations from the HHS expert panel. The Secretary will present awards to the winners in a public recognition ceremony in Washington DC. Data collection activities will be completed within 6 months of OMB clearance.

Estimated Annualized Burden Table
Type of respondent | Number of respondents | Number of responses per respondent | Average burden hours per response | Total burden hours
Organizations (Social and Community Service Managers) | 120 | 1 | 30/60 | 60

Seleda Perryman,
Office of the Secretary, Paperwork Reduction Act Reports Clearance Officer.

[FR Doc. 2010-26753 Filed 10-21-10; 8:45 am]

BILLING CODE 4150-05-P